DEPARTMENT OF JUSTICE

[OMB 1140-0030]

Agency Information Collection Activities; Proposed eCollection eComments Requested; Records and Supporting Data: Importation, Receipt, Storage, and Disposition by Explosives Importers, Manufacturers, Dealers, and Users Licensed Under Title 18 U.S.C. Chapter 40 Explosives

Correction

Notice document 2024-08472, appearing on pages 29365-29366, in the Issue of Monday, April 22, 2024, inadvertently published in error and is hereby withdrawn.

[FR Doc. C1-2024-08472 Filed 4-26-24; 8:45 am]

BILLING CODE 0099-10-P